TENNESSEE VALLEY AUTHORITY

Privacy Act of 1974: Notice of Systems of Records

AGENCY: Tennessee Valley Authority (TVA).

ACTION: Notice of a new System of Records.

SUMMARY: In accordance with the Privacy Act of 1974, as amended, the Tennessee Valley Authority (TVA) proposes to establish a new system of records entitled Freedom of Information Act (FOIA) Requests and Administrative Appeals Files to cover both electronic and paper files created during the processing of access requests and appeals under the FOIA.

DATES: This notice will be effective without further notice on October 30, 2020. unless modified by a subsequent notice to incorporate comments received from the public. Written or electronic comments must be received on or before September 30, 2020 to be assured consideration.

ADDRESSES: Comments should be directed to the Senior Privacy Program Manager: Christopher A. Marsalis, Tennessee Valley Authority, 400 W. Summit Hill Dr. (WT 5D), Knoxville, Tennessee 37902-1401; telephone (865) 632-2467 or by email at camarsalis@tva.gov.

FOR FURTHER INFORMATION CONTACT: Christopher A. Marsalis at (865) 632-2467 or camarsalis@tva.gov.

SUPPLEMENTARY INFORMATION: The FOIA system contains electronic information of each request and administrative appeal made to TVA pursuant to the FOIA, as well as correspondence related to the requests and appeals. In addition, the system allows the public to submit FOIA requests and appeals.

The system includes a public access link on the TVA website where the public can submit a request. It also has interoperability with the National FOIA Portal which is required for all federal agencies no later than 2023.

SYSTEM NAME AND NUMBER:

Freedom of Information Act (FOIA) Requests and Appeals Files. TVA-40.

SECURITY CLASSIFICATION:

Unclassified.

SYSTEM LOCATION:

The records in this system are maintained at the Tennessee Valley Authority, Knoxville, Tennessee.

SYSTEM MANAGER(S):

TVA FOIA Officer, Tennessee Valley Authority, 400 W Summit Hill Dr. SW, Knoxville, TN 37902.

AUTHORITY FOR MAINTENANCE OF THE SYSTEM:

FOIA, 5 U.S.C. 552, as amended.

PURPOSE(S) OF THE SYSTEM:

Only authorized FOIA officials will utilize this system to effectively monitor and track access requests and administrative appeals under the FOIA; and to satisfy TVA's reporting obligations under the FOIA.

CATEGORIES OF INDIVIDUALS COVERED BY THE SYSTEM:

This system contains records on individuals or their representatives who have submitted FOIA requests for records and/or FOIA administrative appeals with TVA, and individuals whose FOIA requests for records have been referred to TVA by other Federal agencies.

CATEGORIES OF RECORDS IN THE SYSTEM:

This system consists of records created or compiled in response to FOIA requests for records or subsequent administrative appeals to include: the requester's name, home phone, home address, home email, work address, work phone, and work email; the original requests and administrative appeals; responses to such requests and appeals; all related memoranda, correspondence, notes, and other related or supporting documentation, summary of log; and in some instances copies of requested records.

RECORD SOURCE CATEGORIES:

Information in this system of records is obtained from the individual submitting the request, TVA officials, and other Federal agencies, if appropriate.

ROUTINE USES OF RECORDS MAINTAINED IN THE SYSTEM, INCLUDING CATEGORIES OF USERS AND PURPOSES OF SUCH USES:

TVA may disclose information contained in a record in this system of records under the routine uses listed in this system of records without the consent of the individual if the disclosure is compatible with a purpose for which the record was collected.

(1) To respond to a request from a Member of Congress regarding an individual's request.

(2) When a record on its face, or in conjunction with other records, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the information disclosed is relevant to any enforcement, regulatory, investigative or prosecute responsibility of the receiving entity.

(3) To the National Archives and Records Administration for purposes of records management inspections conducted under the authority of 44 U.S.C. 2904 and 2906.

(4) To the National Archives and Records Administration, Office of Government Information Services (OGIS), to the extent necessary to fulfill its responsibilities in 5 U.S.C. 552(h), to review administrative agency policies, procedures, and compliance with the Freedom of Information Act, and to facilitate OGIS' offering of mediation services to resolve disputes between persons making FOIA requests and administrative agencies.

(5) To contractors, grantees, experts, consultants, students, and others performing or working on a contract, service, grant, cooperative agreement, or other assignment for the Federal government, when necessary to accomplish an agency function related to this system of records.

(6) To an agency, organization, or individual for the purpose of performing audit or oversight operations as authorized by law, but only such information as is necessary and relevant to such audit or oversight function.

(7) To a Federal agency in order to obtain advice and recommendations concerning matters on which the agency has specialized experience or particular competence, for use in making required determinations under the FOIA.

(8) To a submitter or subject of a record or information in order to obtain assistance to TVA in making a determination as to access or amendment.

(9) In litigation to which TVA is a party or in which TVA provides legal representation for a party by TVA attorneys or otherwise, for use for any purpose including the presentation of evidence and disclosure in the course of discovery. In all other litigation, to respond to process issued under color of authority or a court of competent jurisdiction.

(10) To appropriate agencies, entities, and persons when (1) TVA suspects or has confirmed that there has been a breach of the system of records, (2) TVA has determined that as a result of the suspected or confirmed breach there is a risk of harm to individuals, TVA (including its information systems, programs, and operations), the Federal Government, or national security; and (3) the disclosure made to such agencies, entities, and persons is reasonably necessary to assist in connection with TVA's efforts to respond to the suspected or confirmed breach or to prevent, minimize, or remedy such harm.

(11) To another Federal agency or Federal entity, when TVA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Hardcopy records are stored in secure locations. Electronic records are maintained in various computer databases and in electronic files maintained by TVA component offices.

POLICIES AND PRACTICES FOR RETRIEVAL OF RECORDS:

Electronic and paper records are generally retrieved by the name of the requester, tracking number, or the subject of the request.

POLICIES AND PRACTICES FOR RETENTION AND DISPOSAL OF RECORDS:

Records are retained and disposed of in accordance with the National Archives and Records Administration's General Records Schedule 4.2, but may be retained for a longer period as required by litigation, open investigation, and/or audit.

ADMINISTRATIVE, TECHNICAL, AND PHYSICAL SAFEGUARDS:

Information in this system is safeguarded in accordance with applicable laws, rules, and policies including TVA's automated systems security and access policies. In general, records and technical equipment are maintained in buildings with restricted access. The required use of password protection identification features and other system protection methods also restrict access. Access is limited to those employees who have an official need for access in order to perform their duty.

RECORD ACCESS PROCEDURES:

Individuals seeking to gain access to information about them in this system of records should contact the system manager. Your full name and current address should accompany requests for access.

CONTESTING RECORD PROCEDURES:

Individuals desiring to contest or amend information about them maintained in this system should direct their request to the system manager. Please state clearly and concisely what information is being contested, the reasons for contesting it, and the proposed amendment to the information sought.

NOTIFICATION PROCEDURES:

Individuals wishing to learn if information on them is maintained in this system of records should address inquires to system manager.

EXEMPTIONS PROMULGATED FOR THE SYSTEM:

During the course of a FOIA action, material from other Privacy Act systems of records may become part of the case records in this system of records. To the extent that copies of these records from these other systems of records are entered into these case records, TVA hereby claims the same status for the records as claimed in the original, primary system of records from which they originated, or in which they are maintained.

HISTORY:

This is a new system of record notice.

Andrea S. Brackett,
Vice President, TVA Cybersecurity.

[FR Doc. 2020-19170 Filed 8-28-20; 8:45 am]

BILLING CODE 8120-08-P